DEPARTMENT OF COMMERCE

United States Patent and Trademark Office

[Docket No. PTO-P-2012-0052]

Extension of the Period for Comments on the Enhancement of Quality of Software-Related Patents

AGENCY: United States Patent and Trademark Office, Commerce.

ACTION: Request for comments; extension of the comment period.

SUMMARY: The United States Patent and Trademark Office (USPTO) published a notice announcing the formation of a partnership with the software community to enhance the quality of software-related patents (Software Partnership), and a request for comments on the preparation of patent applications, seeking input on potential practices for preparing patent applications. The USPTO also conducted two roundtables to obtain public input from organizations and individuals on topics relating to the quality of software-related patents and the preparation of software-related patent applications including: establishing clear boundaries for claims that use functional language; identifying additional topics for future discussion by the Software Partnership; and potential practices that applicants can employ at the drafting stage of a patent application in order to facilitate examination and bring more certainty to the scope of issued patents. The USPTO has received several requests for additional time to submit comments in response to the notice. Accordingly, the USPTO is extending the comment period to provide interested members of the public with additional time to submit comments to the USPTO.

DATES: Comment Deadline Date: To be assured of consideration, written comments must be received on or before April 15, 2013.

ADDRESSES: Written comments should be sent by electronic mail addressed to SoftwareRoundtable2013@uspto.gov. Comments may also be submitted by mail addressed to: Mail Stop Comments—Patents, Commissioner for Patents, P.O. Box 1450, Alexandria, VA 22313-1450, marked to the attention of Seema Rao, Director, Technology Center 2100. Although comments may be submitted by postal mail, the USPTO prefers to receive comments via electronic mail because sharing comments with the public is more easily accomplished.

The comments will be available for public inspection on the USPTO's Web site at http://www.uspto.gov, and will also be available at the Office of the Commissioner for Patents, currently located in Madison East, Tenth Floor, 600 Dulany Street, Alexandria, Virginia. Because comments will be made available for public inspection, information that the submitter does not desire to make public, such as an address or phone number, should not be included in the comments. Parties who would like to rely on confidential information to illustrate a point are requested to summarize or otherwise submit the information in a way that will permit its public disclosure.

FOR FURTHER INFORMATION CONTACT: Seema Rao, Director, Technology Center 2100, by telephone at 571-272-5253, or by electronic mail message at seema.rao@uspto.gov; or Matthew J. Sked, Legal Advisor, by telephone at (571) 272-7627, or by electronic mail message at matthew.sked@uspto.gov.

SUPPLEMENTARY INFORMATION: On January 3, 2013, the USPTO published a notice announcing the Software Partnership, which is a cooperative effort between the USPTO and the software community to explore ways to enhance the quality of software-related patents. See Request for Comments and Notice of Roundtable Events for Partnership for Enhancement of Quality of Software-Related Patents, 78 FR 292 (January 3, 2013). The Software Partnership commenced with two bi-coastal roundtable events held in Silicon Valley on February 12, 2013, and in New York City on February 27, 2013, during which multiple speakers from the software community and the public offered oral comments on functional claim language, topics for future discussion by the Software Partnership, and the preparation of patent applications. The notice also invited the public to submit written comments on or before March 15, 2013. The USPTO has received several requests for additional time to submit comments, and is now extending the period for submission of public comments until April 15, 2013.

Dated: March 11, 2013.
Teresa Stanek Rea,
Acting Under Secretary of Commerce for Intellectual Property and Acting Director of the United States Patent and Trademark Office.

[FR Doc. 2013-06014 Filed 3-14-13; 8:45 am]

BILLING CODE 3510-16-P